DEPARTMENT OF DEFENSE

Department of the Navy

[Docket ID USN-2022-HQ-0019]

Proposed Collection; Comment Request

AGENCY: Department of the Navy, Department of Defense (DoD).

ACTION: 60-Day information collection notice.

SUMMARY: In compliance with the Paperwork Reduction Act of 1995, the United States Marine Corps (USMC) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 22, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Marine and Family Programs, Compliance (MFI), 3280 Russell Road, Quantico, VA 22134, ATTN: Mr. Theodore McCann, or call 703-784-1333.

SUPPLEMENTARY INFORMATION:

Title; Associated Form; and OMB Number: U.S. Marine Corps Dependency Statement Child Born Out of Wedlock Under Age 21; NAVMC Form 1750/13; OMB Control Number 0703-DEPE.

Needs and Uses: The information collected will be used to support the USMC Military Personnel Services DEERS/Dependency Determination Section (MFP-1). The information will be used by the Marine Corps to determine the member's entitlement to Basic Allowance for Housing and Travel and Transportation. Respondents are guardians of claimed dependents. The collection instrument is NAVMC 1750/13, “USMC Dependency Statement Child Born Out of Wedlock Under Age 21.” Respondents will enter their information on the PDF-fillable form and submit it to their Installation Personnel Admin Center (IPAC). Assistance with the completion of the collection instruments is available in person or over the telephone with IPAC. Once the respondent completes the form, they'll send it via email or physically turn it in depending on their IPAC's Standard Operating Procedures (SOPs). Cases are typically adjudicated by the IPAC personnel officer and returned to the respondent.

Affected Public: Individuals or households.

Annual Burden Hours: 25 hours.

Number of Respondents: 20.

Responses per Respondent: 1.

Annual Responses: 20.

Average Burden per Response: 75 minutes.

Frequency: On occasion.

Dated: June 15, 2022.
Aaron T. Siegel,
Alternate OSD Federal Register Liaison Officer, Department of Defense.

[FR Doc. 2022-13263 Filed 6-21-22; 8:45 am]

BILLING CODE 5001-06-P